NATIONAL AERONAUTICS AND SPACE ADMINISTRATION

[Notice (05-026)]

NASA Summit Industry Panel 2005; Meeting

AGENCY: National Aeronautics and Space Administration.

ACTION: Notice of meeting.

SUMMARY: In accordance with the Federal Advisory Committee Act, Pub. L. 92-463, as amended, the National Aeronautics and Space Administration announces a meeting of the NASA Summit Industry Panel 2005.

DATES: Wednesday, March 9, 2005, 1 p.m. to 4 p.m.

ADDRESSES: National Aeronautics and Space Administration, 300 E Street, SW., Washington, DC 20546, Auditorium—West Lobby.

FOR FURTHER INFORMATION CONTACT: Mr. John White, National Aeronautics and Space Administration, Washington, DC 20546, 202/358-5157. Persons with disabilities who require assistance should indicate this.

SUPPLEMENTARY INFORMATION: The meeting will be open to the public up to the seating capacity of the room. The agenda for the meeting is as follows:

—Vision for Space Exploration

—Integrated Space Operations Summit Update

—Industry Panel Team Activities

Attendees will be requested to sign a register. It is imperative that the meeting be held on this date to accommodate the scheduling priorities of the key participants.

Dated: February 10, 2005.
P. Diane Rausch,
Advisory Committee Management Officer, National Aeronautics and Space Administration.

[FR Doc. 05-3006 Filed 2-16-05; 8:45 am]

BILLING CODE 7510-13-P